DEPARTMENT OF TRANSPORTATION

Federal Aviation Administration

14 CFR Part 39

[Docket No. 2000-NM-409-AD; Amendment 39-13853; AD 2004-22-25]

RIN 2120-AA64

Airworthiness Directives; Boeing Model 767-200, -300, and -300F Series Airplanes

AGENCY: Federal Aviation Administration, DOT.

ACTION: Final rule.

SUMMARY: This amendment adopts a new airworthiness directive (AD), applicable to certain Boeing Model 767-200, -300, and -300F series airplanes, that requires a one-time inspection for discrepancies of all wire bundles, including certain power feeder cables, of the electrical system in the forward cargo compartment ceiling at certain stations; and corrective actions if necessary. This action is necessary to prevent damage to wire bundles, particularly those of the fuel quantity indication system (FQIS), which are located in the subject area. Damage of FQIS wires could cause arcing between those wires and power wires in the damaged wire bundle, and may lead to transmission of electrical energy into the fuel tank, which would result in a potential source of ignition in the fuel tank. This action is intended to address the identified unsafe condition.

DATES: Effective December 14, 2004.

The incorporation by reference of certain publications listed in the regulations is approved by the Director of the Federal Register as of December 14, 2004.

ADDRESSES: The service information referenced in this AD may be obtained from Boeing Commercial Airplanes, PO Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Elias Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION: A proposal to amend part 39 of the Federal Aviation Regulations (14 CFR part 39) to include an airworthiness directive (AD) that is applicable to certain Boeing Model 767-200, -300, and -300F series airplanes was published as a supplemental notice of proposed rulemaking (NPRM) in the Federal Register on January 28, 2003 (68 FR 4116). That action proposed to require a one-time detailed inspection to detect discrepancies of all wire bundles routed along the ceiling of the forward cargo compartment at certain stations; and corrective actions if necessary.

Explanation of New Service Information

Since the issuance of the supplemental NPRM, Boeing issued and we reviewed Revision 3 of Boeing Service Bulletin 767-24A0128, dated June 24, 2004. (The supplemental NPRM referred to Revision 2 of the service bulletin as the appropriate source of service information for accomplishing the proposed actions.) Revision 3 adds a new Figure 2 to clarify the instructions for inspecting the power feeder cables and installing sleeving, and clarifies the instructions for installing sleeving and lacing tape in Figure 1. Revision 3 also corrects a typographical error that resulted in the reference to an incorrect station; the supplemental NPRM specified the correct station. No more work is necessary on airplanes changed in accordance with Revision 2 or earlier releases of the service bulletin, provided that the required inspection and applicable corrective actions are done on all wire bundles, including power feeder cables W208 and W236, of the electrical system in the forward cargo compartment from stations 368 through 742 and from right buttock lines (RBL) 40 through 70, routed along the ceiling.

In light of the changes to the service bulletin described above, we have revised paragraphs (a) and (a)(2) and the preamble of this AD accordingly, to clarify the inspection area and clearance measurements. In addition, we have revised the final rule to refer to Revision 3 of the service bulletin as the appropriate source of service information for accomplishing the required actions and added a new paragraph (b) to give operators credit for accomplishing the required actions before the effective date of the AD, in accordance with Revision 2 or earlier releases of the service bulletin with the provision described previously.

Comments

Interested persons have been afforded an opportunity to participate in the making of this amendment. Due consideration has been given to the comments received.

Request To Extend Compliance Time

One commenter requests that the compliance time for the proposed inspection specified in paragraph (a) of the supplemental NPRM be extended from 18 to 24 months to coincide with regularly scheduled “C” checks. The commenter states that the proposed compliance time of 18 months will require approximately one-fourth of its fleet to be scheduled at special times for the accomplishment of the inspection at additional expense. The commenter also states that a detailed inspection was done on two of its oldest airplanes and no chafing was found, and that the proposed inspection area is already included in an existing maintenance inspection program. For these reasons, the commenter concludes that a 24-month compliance time will provide an equivalent level of safety.

The FAA partially agrees. We do not agree with the commenter's rationale for extending the compliance time. The inspection that the commenter refers to in the existing maintenance program is not a detailed inspection of the wire bundles; it is a general visual inspection of the area that includes the wire bundles. In addition, although the commenter found no chafing damage on its oldest airplanes, age is not the only contributing factor to wire degradation and consequent damaged wire bundles. The wiring on any airplane, regardless of age, is also susceptible to contributing factors such as improper installation or maintenance, contamination, fluid leakages, inadvertent spillage of liquids, or harmful debris that may be generated during production or maintenance.

In developing an appropriate compliance time for the required inspection, we considered the safety implications, the commenters' request in the original NPRM to extend the compliance time from 15 to 18 months, and normal maintenance schedules for timely accomplishment of the inspection. In consideration of these items, we have determined that 18 months represents an appropriate interval of time allowable wherein the inspection can be accomplished during scheduled maintenance intervals for the majority of affected operators, and an acceptable level of safety can be maintained. However, we recognize that some operators' “C” check intervals are longer than 18 months because of a low utilization rate. Therefore, we have revised the compliance time specified in paragraph (a) of this AD to “Within 18 months or 6,000 flight hours after the effective date of this AD, whichever occurs later.”

Request To Exclude the Generator Power Feeder Cables From the Required Actions

One commenter requests that paragraph (a) of the supplemental NPRM be revised to state, “* * * to detect discrepancies of the stranded wire bundles routed in the notched floor beam area along the ceiling of the forward cargo compartment, from station 368 through 742. * * *” The commenter states that Revision 2 of the referenced service bulletin describes an inspection area beyond where wiring actually exists, and that it does not differentiate between the stranded wire bundles and the feeder cables. The commenter also states that the feeder cables are well supported within an inch of the stand-offs, are relatively stiff as compared to the stranded wire bundles, and are not part of the issues that prompted the proposed actions on the cables in this area. The commenter further states that there is no benefit gained from attaching plastic sleeving or adding spacers where the cable is routed greater than .125 inch from any stand-off.

We do not agree with the suggestion as worded by the commenter, but do agree that the inspection area specified in paragraph (a) and clearance measurements specified in paragraph (a)(2) of this AD need to be clarified. In conjunction with Boeing, we conducted an inspection of the subject area on certain affected Boeing Model 767 series airplanes at Boeing's production area. The inspection results revealed that power feeder cables W208 and W236 are more rigidly supported in their position than other electrical wire bundles in the forward cargo compartment from stations 368 through 742 and RBLs 40 through 70, routed along the cargo compartment ceiling. As discussed previously, we have reviewed Revision 3 of Boeing Service Bulletin 767-24A0128, dated June 24, 2004, which clarifies the inspection area and clearance measurement, and have revised the final rule accordingly.

Request To Allow Installation of a Tie Cord

One commenter requests that paragraph (a)(2)(ii) of the supplemental NPRM be revised to allow installation of a tie cord instead of a tie strap. The commenter notes that Figure 1, Step 5 of Revision 2 of the referenced service bulletin specifies the use of a strap having part number (P/N) BACS38K2 to secure the harness to the cable mount. The commenter states that the retainer end of the strap can interfere with adjacent harness runs and may cause future damage.

We agree with the commenter's request and observations. We have determined that a tie cord having P/N BMS 13-54 or equivalent may be used as an alternative to a strap having P/N BACS38K2. We have revised paragraph (a)(2) of this AD accordingly.

Request To Fix Service Bulletin Errors

One commenter notes that the inspection area specified in the “NOTES” column in the table of Figure 1 of Revision 2 of the service bulletin should be from station “368,” not “638.” From this comment, we infer that the commenter is requesting us to inform Boeing of the error. We agree. As discussed previously, Boeing has issued and we have reviewed Revision 3 of the service bulletin, which corrects the typographical error. However, no change to the final rule is necessary in this regard, because this AD specifies the correct station.

In the “NOTES” column in the table of Figure 1 of Revision 2 of the service bulletin, the same commenter also notes that it refers to Boeing Standard Wiring Practices Manual (BWSPM) sections 20-10-11 and 20-10-12. The commenter states that these sections specify installation criteria, not an inspection procedure, and that BWSPM section 20-60-03, page 201, sub-task 222-003 is a more appropriate reference as it is an inspection criteria directed toward damage identification.

We agree with the commenter that BWSPM sections 20-10-11 and 20-10-12 do not provide inspection procedures. In fact, none of the BSWPM sections describe procedures for inspections. The intent of those sections is to provide instructions how to examine the wires and mounting components to determine installation and damage conditions and to make necessary repairs. Revisions 2 and Revision 3 of the service bulletin are referring to those sections for that purpose only. We also note that BSWPM section 20-60-03, as suggested by the commenter, provides procedures for special protection of electrical connectors. No change to the final rule is necessary in this regard.

Request for Credit for Accomplishment of Earlier Service Bulletin

One commenter requests that the supplemental NPRM be revised to give operators credit for prior accomplishment of Boeing Alert Service Bulletin 767-24A0128, dated May 11, 2000; and Revision 1, dated December 6, 2001; as acceptable means of compliance with the requirements of the supplemental NPRM.

A second commenter requests credit for Revision 1 only. The commenter states that Revision 1 of the service bulletin is more restrictive than Revision 2 with regard to the installation of the subject Teflon protection, clamps, and straps, and therefore, offers an equivalent level of protection to the wire bundles. The commenter also states that the addition of buttock line information to Revision 2, while useful data, does not affect the ability to accomplish the intent of the supplemental NPRM. The commenter believes that all of the subject wire bundles in the inspection area are closely located to each other and clearly visible to maintenance personnel when the inspection area is accessed. Further, the commenter notes that there are no differences between the illustrations in Revisions 1 and 2 showing wire bundle locations subject to the inspection, and therefore, concludes that the areas to be accessed are the same.

We partially agree with the commenters' request. As discussed in the preamble of the supplemental NPRM, Revision 2 of the referenced service bulletin expands the inspection to include areas that were inadvertently omitted from the original service bulletin and Revision 1. Figure 1 of the original issue and Revision 1 incorrectly identifies the inspection area as RBL 70 only; the correct inspection area is between RBL 40 and RBL 70. Therefore, we do not agree with the commenters that accomplishing the required inspection and applicable corrective actions at RBL 70 only, as specified in the original issue and Revision 1 of the referenced service bulletin, is an acceptable means of compliance with the requirements of this AD. However, as discussed previously, we have added a new paragraph (b) to the final rule to give operators credit for accomplishing the required actions before the effective date of the AD in accordance with those previous releases of the referenced service bulletin, provided that those actions were done on the subject wire bundles from stations 368 through 742 and from RBL 40 through 70.

Conclusion

After careful review of the available data, including the comments noted above, we have determined that air safety and the public interest require the adoption of the rule with the changes previously described. These changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the supplemental NPRM regarding that material.

Changes to Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are about 774 airplanes of the affected design in the worldwide fleet. We estimate that 303 airplanes of U.S. registry will be affected by this AD, that it will take approximately 2 work hours per airplane to accomplish the required inspection, and that the average labor rate is $65 per work hour. Based on these figures, the cost impact of this AD on U.S. operators is estimated to be $39,390, or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-25 Boeing: Amendment 39-13853. Docket 2000-NM-409-AD.

Applicability: Model 767-200, -300, and -300F series airplanes; certificated in any category; as listed in Boeing Alert Service Bulletin 767-24A0128, Revision 3, dated June 24, 2004.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent damage of wire bundles in the forward cargo compartment, particularly wires of the fuel quantity indication system (FQIS) installed in that area, which could cause arcing between the FQIS wires and power wires in the damaged wire bundle, lead to transmission of electrical energy into the fuel tank, and result in a potential source of ignition in the fuel tank, accomplish the following:

Inspection and Corrective Actions

(a) Within 18 months or 6,000 flight hours after the effective date of this AD, whichever occurs later, do a one-time detailed inspection for discrepancies of all wire bundles, including power feeder cables W208 and W236, of the electrical system in the forward cargo compartment from stations 368 through 742 and from right buttock lines (RBL) 40 through 70, routed along the ceiling, according to the Accomplishment Instructions of Boeing Alert Service Bulletin 767-24A0128, Revision 3, dated June 24, 2004. Discrepancies include chafing or damage of wire bundles near stand-offs that attach the cargo ceiling liner to the floor beams.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Before further flight, repair any discrepancy, according to the Accomplishment Instructions of the service bulletin.

(2) Before further flight, examine the clearance between all wire bundles, including the power feeder cables, in the forward cargo compartment and the cargo liner standoffs, and do the applicable corrective actions specified in paragraphs (a)(2)(i) and (a)(2)(ii) of this AD, according to the service bulletin. A tie cord having P/N BMS 13-54 or equivalent may be used as an alternative to a tie strap having part number BACS38K2.

Table 1.—Clearance Between Wire Bundles and Cargo Liner Standoffs
If the clearance between the— | Is— | Then—
(i) Wire bundles and cargo liner standoffs | 0.25 inch or more | No further action is required by this AD.
| Between 0.13 and 0.25 inch | Install sleeving and lacing tape
| Less than 0.13 inch | Install sleeving, lacing tape, cable spacers, and straps.
(ii) Power feeder cables and cargo liner standoffs | 0.13 inch or more | No further action is required by this AD
| Less than 0.13 inch | Install sleeving, lacing tape, cable spacers, and straps.

Credit for Actions Done Previously

(b) Accomplishment of the inspection and applicable corrective actions before the effective date of this AD in accordance with Boeing Alert Service Bulletin 767-24A0128, dated May 11, 2000; Revision 1, dated December 6, 2001; or Revision 2, dated May 23, 2002; is acceptable for compliance with the corresponding actions required by this AD, provided that those actions were done on all wire bundles, including power feeder cables W208 and W236, of the electrical system in the forward cargo compartment from stations 368 through 742 and from RBLs 40 through 70, routed along the ceiling.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done in accordance with Boeing Service Bulletin 767-24A0128, Revision 3, dated June 24, 2004. This incorporation by reference was approved by the Director of the Federal Register in accordance with 5 U.S.C. 552(a) and 1 CFR part 51. Copies may be obtained from Boeing Commercial Airplanes, PO Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(f) This amendment becomes effective on December 14, 2004.

Issued in Renton, Washington, on October 26, 2004.
Ali Bahrami,
Manager, Transport Airplane Directorate, Aircraft Certification Service.

[FR Doc. 04-24624 Filed 11-8-04; 8:45 am]

BILLING CODE 4910-13-P